DEPARTMENT OF THE INTERIOR

Fish and Wildlife Service

Final Environmental Impact Statement and Comprehensive Conservation Plan for Crab Orchard National Wildlife Refuge in Illinois

AGENCY: Fish and Wildlife Service, Interior.

ACTION: Notice of availability of record of decision.

SUMMARY: We, the U.S. Fish and Wildlife Service, announce our decision and the availability of the Record of Decision (ROD) for the Final Environmental Impact Statement (EIS) and Comprehensive Conservation Plan (CCP) for Crab Orchard National Wildlife Refuge in accordance with National Environmental Policy Act (NEPA) requirements.

ADDRESSES: The ROD and Final EIS/CCP may be viewed at Crab Orchard National Wildlife Refuge Headquarters in Marion, Illinois. You may obtain a copy of the ROD on the planning Web site at http://www.fws.gov/midwest/planning/craborchard or by writing to: U.S. Fish and Wildlife Service, Division of Conservation Planning, Bishop Henry Whipple Federal Building, 1 Federal Drive, Fort Snelling, Minnesota 55111.

FOR FURTHER INFORMATION CONTACT: Dan Frisk, (618) 997-3344.

SUPPLEMENTARY INFORMATION: We, the U.S. Fish and Wildlife Service, announce our decision and the availability of the Record of Decision (ROD) for the Final Environmental Impact Statement (EIS) and Comprehensive Conservation Plan (CCP) for Crab Orchard National Wildlife Refuge in accordance with NEPA requirements (40 CFR 1506.6(b)). We completed a thorough analysis of the environmental, social, and economic considerations, which we included in the Final EIS/CCP. The Final EIS/CCP was released to the public and a notice of availability was published in the Federal Register (71 FR 52138-52139, September 1, 2006). The ROD was signed by the Regional Director, U.S. Fish and Wildlife Service, Midwest Region, on October 27, 2006, and documents the selection of Alternative E, the Preferred Alternative in the Final EIS/CCP.

The CCP for Crab Orchard National Wildlife Refuge (Refuge) will guide the management and administration of the Refuge for the next 15 years. Alternative E, as described in the Final EIS, is the foundation for the CCP.

Five alternatives and their consequences were developed for the Draft EIS and CCP, which was released and a notice was published in the Federal Register (70 FR 60364-60365, October 17, 2005).

Alternative A—Current Management (No Action). The current level of effort on fish and wildlife and habitat management would continue. The current authorized recreation uses and patterns would continue. Current industrial leasing policies would remain in place. The amount of agricultural land would remain fairly constant.

Alternative B—Reduced Habitat Fragmentation: Wildlife-dependent Recreation Emphasis with Land Exchange. The Refuge would emphasize the reduction of habitat fragmentation by making small changes in the current habitat cover to gain larger, unfragmented blocks of both forest and grassland habitats. The alternative would offer increased recreational opportunities by exchanging land in the developed northwestern portion of the Refuge for undeveloped land at another location. The industrial use policy would be updated. The amount of land in row crops would decrease slightly, and the Refuge would convert fescue pastures to other cool- and warm-season grasses over a period of 15 years.

Alternative C—Open Land Management: Consolidate and Improve Recreation. The Refuge would take advantage of the lands that are already open and consolidate existing large blocks of open land for grassland dependent species, especially birds. The Refuge would satisfy the Refuge's recreation purpose as much as possible within Service budget priorities through consolidating and upgrading facilities. If an industrial tenant left the Refuge, the Refuge would not seek a new tenant for the vacant facility. The amount of land in row crops would increase slightly.

Alternative D—Forest Land Management: Consolidate and Improve Recreation. The Refuge would manage two large forest blocks to benefit area-sensitive forest birds and maintain some early successional habitat. The Refuge would satisfy the Refuge's recreation purpose as much as possible within Service budget priorities through consolidating and upgrading facilities. If an industrial tenant left the Refuge, the Refuge would not seek a new tenant for the vacant facility. The amount of land in row crops and hay fields would decrease slightly.

Alternative E—Reduced Habitat Fragmentation: Consolidate and Improve Recreation (Preferred Alternative). The Refuge would emphasize the reduction of habitat fragmentation by making small changes in the current habitat cover to gain larger, unfragmented blocks of both forest and grassland habitats. The Refuge would satisfy the Refuge's recreation purpose as much as possible within Service budget priorities through consolidating and upgrading facilities. If an industrial tenant left the Refuge and their facilities were suitable for occupancy, the Refuge would make them available for new tenants. The amount of land in row crops would decrease slightly.

Elements common to all alternatives included: enough food for 6.4 million goose-use-days for wintering Canada Geese would be provided; federal and state listed species would be protected; resident fish and wildlife populations would be maintained or enhanced; communication between the Refuge and the community would be improved; cultural resources would be protected; and the Refuge's Fire Management Plan would guide the fire program. In addition the following policies would apply under all alternatives: classifying lands for various uses would be dropped; the length of stay at campgrounds would be limited to 14 consecutive nights; group camps would be required to provide environmental education; recreational fees would be made consistent with the Federal Lands Recreation Enhancement Act of 2005; small competitive fishing events would be limited to three events per year per organization; and mowing of pastures and fields would take place after August 1 to protect nesting birds.

The Service's Basis for Decision: All action alternatives (B through E) are considered environmentally preferable to Alternative A (No Action). Alternative E is the alternative considered to have the least adverse effect on the physical and biological environments. The rationale for choosing Alternative E as the best alternative for the CCP is based on the impact of this alternative on the purposes of the Refuge and the issues and needs that surfaced during the planning process. Other factors considered in the decision were public and resource benefits gained for the cost incurred and the extensive public comment. Alternative E is likely to lead to improvements under the agricultural, wildlife conservation, and recreation purposes of the Refuge. Alternative E is also expected to lead to wider and fairer access to public recreational opportunities. Alternative A was not selected because it would inadequately address the needs and issues that were documented during planning. Alternative B was not selected because the land exchange, which was the heart of the alternative, could not be accomplished within the authorities of the Department of the Interior. Alternatives C and D served to contrast an emphasis on grassland birds with an emphasis on forest birds, and we learned that only marginal benefits would accrue to either group of birds over the reduced habitat fragmentation approach of Alternative B or E.

Public Comments on Final EIS: During the 30-day waiting period, we received 67 written comments. With one exception, the comments did not raise any issues not addressed in the Final EIS, and the comments did not result in changes to the analysis of environmental consequences or affect our response to similar comments in the Final EIS. One comment pointed out an inconsistency in the document, which was introduced in the final editing, related to the acres of new moist soil impoundments in the preferred alternative. The Refuge's intention is, as indicated by the response on page 181 of the Final EIS, to develop 150-200 additional acres of moist soil impoundments. The stand-alone CCP will reflect that intention. A new topic raised during the waiting period was an advocacy for rock climbing on the Refuge. The Access Fund requested that we complete a Compatibility Determination for rock climbing and amend the Final EIS/CCP. Other citizens and groups also expressed an interest in allowing access for climbing. The Record of Decision details Service guidance for determining appropriate and compatible uses and the finding by the Refuge Manager that rock climbing at Crab Orchard National Wildlife Refuge is not appropriate. As a result of this finding and according to Service procedure, rock climbing on the Refuge has been denied by the Refuge Manager without determining compatibility, and the Final EIS has not been amended. All written comments received during the waiting period are available for review at the Refuge headquarters in Marion, Illinois.

Measures to Minimize Environmental Harm: Because all practicable means to avoid or minimize environmental harm have been incorporated into the preferred alternative, no mitigation measures have been identified. Means to minimize environmental harm are complemented by a Biological Assessment that was prepared to address any impacts to federally-listed threatened or endangered species. This assessment calls for a tiered approach, whereby impacts and mitigation will be handled on a project-specific basis when project scope and design is articulated. The Biological Assessment concluded that implementation of Alternative E is not likely to adversely affect the Bald Eagle and not likely to jeopardize the continued existence of the Indiana bat. In addition, compatibility determinations were prepared for all uses identified in Alternative E, and these determinations contain stipulations to avoid, minimize, or mitigate any environmental impacts from these uses and associated facilities.

Dated: November 20, 2006.
Charles M. Wooley,
Acting Regional Director, U.S. Fish and Wildlife Service, Fort Snelling, Minnesota.

[FR Doc. E6-22384 Filed 12-28-06; 8:45 am]

BILLING CODE 4310-55-P